NUCLEAR REGULATORY COMMISSION

Sunshine Act; Meeting Notice

AGENCY HOLDING THE MEETINGS: Nuclear Regulatory Commission [NRC-2010-0002].

DATES: Week of February 22, 2010.

PLACE: Commissioners' Conference Room, 11555 Rockville Pike, Rockville, Maryland.

STATUS: Public and Closed.

ADDITIONAL ITEMS TO BE CONSIDERED:

Week of February 22, 2010

Tuesday, February 23, 2010

9:25 a.m. Affirmation Session (Public Meeting) (Tentative).

Entergy Nuclear Operations, Inc. (Indian Point Nuclear Generating Unit Nos. 1, 2, and 3); Docket Nos. 50-003-LT-2, 50-247-LT-2, 50-286-LT-2, and 72-51-LT-2. (Request for Hearing on Extension of Time to Complete License Transfer) (Tentative).

This meeting will be Webcast live at the Web address— http://www.nrc.gov.

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: February 16, 2010.
Rochelle C. Bavol,
Office of the Secretary.

[FR Doc. 2010-3354 Filed 2-17-10; 4:15 pm]

BILLING CODE 7590-01-P